POSTAL SERVICE

Privacy Act of 1974; System of Records

AGENCY: Postal Service™.

ACTION: Notice of revisions to an existing systems of records.

SUMMARY: The United States Postal Service® (Postal Service) is proposing to revise the Customer Privacy Act Systems of Records (SOR). These changes are being made to:

a. Improve the customer experience by enhancing convenience and facilitating the provision of accurate and reliable delivery information.

b. To support other Federal Government agencies by providing authorized services.

DATES: These revisions will become effective without further notice on January 22, 2018 unless comments received on or before that date result in a contrary determination.

ADDRESSES: Comments may be mailed or delivered to the Privacy and Records Management Office, United States Postal Service, 475 L'Enfant Plaza SW, Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service™ has determined that one Customer Privacy Act Systems of Records should be revised to modify Categories of Records in the System, Authority for Maintenance of the System, Purpose(s), Retention and Disposal, and System Manager(s) and Address.

I. Background

A. Electronic signature on file (eSOF) is being implemented to improve customer experience for Informed Delivery® enrollees that opt-in to eSOF, by providing a convenient option for Priority Mail Express, Signature confirmation and Insured (over $500) package recipients, that agree to Terms and Conditions of use to apply an electronic signature at the point of delivery. Informed Delivery customers that are interested in eSOF will have the opportunity to opt-in to the feature. After opting in, customers can apply their electronic signature on an item by USPS tracking number for packages that are eSOF eligible and are inbound to the 11 digit delivery point ZIP-Code tracked on the customers' Informed Delivery dashboard. With this feature, package shippers will also have the opportunity to choose whether or not they wish to allow their packages to be signed for with an electronic signature applied through the eSOF process.

B. Provide interagency support to other Federal Government agencies with services authorized under 39 U.S.C., Section 411. The Postal Service intends to conduct a biometric capture of fingerprints to support the needs of other Federal Government agencies. This process will include: Collection of the individual's name, order number, or email address entered into the appropriate online computer application for scheduling purposes; in-person capturing of the individual's fingerprints using a biometric fingerprint reader and transmitting the information to the Federal Government Agency that has requested the information; and collecting a fingerprinting service fee, as appropriate, from the individual.

II. Rationale for Changes to USPS Privacy Act Systems of Records

Privacy Act System of Records 910.000, System Name: Identity and Document Verification Services, is being revised to improve customer and mailer experience with shipping records that include accurate and reliable delivery information and to support other Federal Government agencies by providing authorized services.

III. Description of Changes to Systems of Records

Pursuant to 5 U.S.C. 552a (e)(11), interested persons are invited to submit written data, views, or arguments on this proposal. A report of the proposed revisions has been sent to Congress and to the Office of Management and Budget for their evaluations. The Postal Service does not expect these amended systems of records to have any adverse effect on individual privacy rights. The affected systems are as follows:

USPS 910.000

SYSTEM NAME:

Identity and Document Verification Services.

* * * * *

CATEGORIES OF RECORDS IN THE SYSTEM

[CHANGE TO READ]

* * * * *

8. Recipient information: Electronic signature ID, electronic signature image, electronic signature expiration date and timestamp.

* * * * *

AUTHORITY FOR MAINTENANCE OF THE SYSTEM

[CHANGE TO READ]

* * * * *

39 U.S.C. 401, 403, 404, and 411.

PURPOSES

[CHANGE TO READ]

* * * * *

6. To improve the customer experience and facilitate the provision of accurate and reliable delivery information.

7. To identify, prevent, or mitigate the effects of fraudulent transactions.

8. To support other Federal Government agencies by providing authorized services.

9. To ensure the quality and integrity of records.

* * * * *

RETENTION AND DISPOSAL

[CHANGE TO READ]

* * * * *

7. Records related to electronic signature images are retained in an electronic database for 3 years.

8. Other categories of records are retained for a period of up to 30 days.

SYSTEM MANAGER(S) AND ADDRESS

[CHANGE TO READ]

Chief Information Officer and Executive Vice President, United States Postal Service, 475 L'Enfant Plaza SW, Washington, DC 20260-1500.

* * * * *

Ruth B. Stevenson,
Attorney, Federal Compliance.

[FR Doc. 2017-27557 Filed 12-21-17; 8:45 am]

BILLING CODE 7710-12-P